DEPARTMENT OF COMMERCE

Economic Development Administration

Agency Information Collection Activities; Submission for OMB Review; Comment Request; Semi-Annual and Annual Data Collection Instruments for EDA Grant and Cooperative Agreement Award Recipients

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 16, 2023, during a 60-day comment period. This notice allows for an additional 30 days for public comments.

Agency: Economic Development Administration (EDA), Department of Commerce.

Title: Semi-Annual and Annual Data Collection Instruments for EDA Grant and Cooperative Agreement Award Recipients.

OMB Control Number: 0610-0098.

Form Number(s): ED-915, ED-916, ED-917, and ED-918.

Type of Request: Extension without revision of a currently approved information collection (Form ED-915, ED-916, ED-917, and ED-918).

Number of Respondents: 3,510.

Average Hours per Response: 1-8 hours.

Burden Hours: 14,981 (Forms ED-916: 3,201 hours semiannually, ED-915, ED-917 and ED-918:11,780 annually).

Needs and Uses: EDA must comply with the Government Performance and Results Act of 1993 (Pub. L. 103-62) and the GPRA Modernization Act of 2010 (Pub. L. 111-352), which require Federal agencies to develop performance measures and report to Congress and stakeholders the results of the agency's performance. The Foundations for Evidence-Based Policymaking Act of 2018 (Pub. L. 115-435) further emphasizes the importance of updating existing methodologies for performance measurement and program evaluation to align with evolving best practices. The data collected will help EDA construct more robust performance metrics and increase accountability and transparency of the agency's work by providing better insight into the efficiency and effectiveness of all the programs under its non-infrastructure portfolio.

Affected Public: State and local governments; Development Organizations; Indian Tribes; Institutions of higher education; and Nonprofit organizations.

Frequency: Semiannual and annual.

Respondent's Obligation: Mandatory.

Legal Authority: Public Works and Economic Development Act of 1965 (PWEDA) (42 U.S.C. 3121 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0098.

Sheleen Dumas,
Department PRA Clearance Officer, Office of the Under Secretary for Economic Affairs, Commerce Department.

[FR Doc. 2023-09655 Filed 5-5-23; 8:45 am]

BILLING CODE 3510-34-P